DEPARTMENT OF TRANSPORTATION

Federal Highway Administration

Notice of Availability of Environmental Assessment for Washington, DC to Baltimore Loop Project

AGENCY: Federal Highway Administration (FHWA), DOT.

ACTION: Notice of reopening of comment period.

SUMMARY: The FHWA is reopening the comment period for the Environmental Assessment (Draft) for the Washington, DC to Baltimore Loop Project, which was published on April 24, 2019. The original comment period closed on June 10, 2019. The extension is based on concern expressed by stakeholders that this closing date does not provide sufficient time to review and provide comprehensive comments on the proposal. The FHWA recognizes that others interested in commenting may have similar concerns and agrees that the comment period should be extended.

DATES: Comments must be received on or before July 17, 2019.

ADDRESSES: You may submit comments by any of the following methods:

• Project Website: https://www.dcbaltimoreloop.com. Follow the instructions for submitting comments on the website.

• Mail: Ms. Donna Buscemi, Maryland Department of Transportation State Highway Administration, 707 N Calvert Street, MS C-301, Baltimore, MD 21202. Please include “Washington, DC to Baltimore Loop Project” in your subject line.

Electronic copies may be downloaded from the Project website and hard copies of the Environmental Assessment (Draft) may also be viewed at the following locations, by appointment only:

• FHWA Maryland Division, George H. Fallon Federal Building, 31 Hopkins Plaza, Baltimore, MD 21201, (410) 962-4440.

• FHWA District of Columbia Division, 1200 New Jersey Avenue SE, East Building, Washington, DC 20590.

FOR FURTHER INFORMATION CONTACT: Ms. Donna Buscemi, Project Sponsor Liaison, Maryland Department of Transportation State Highway Administration, Office of Planning and Preliminary Engineering, 707 N Calvert Street, MS C-301, Baltimore, MD 21202, (410) 545-8500.

Background

The Washington, DC to Baltimore Loop Project is proposed, and will be completely funded by, The Boring Company. The purpose of the proposed action is to construct an alternative, high speed option for traveling between Washington, District of Columbia, and Baltimore, Maryland. The Proposed Action consists of the construction of approximately 35.3 miles of parallel, twin underground tunnels (Main Artery Tunnels) between Washington, DC and Baltimore, MD. The proposed project would extend beneath public right-of-way of the Route 50 and Baltimore-Washington Parkway, with termini at 55 New York Avenue Northeast in Washington, DC and Oriole Park at Camden Yards, 333 Camden Street, Baltimore, MD.

Battery-powered, autonomous electric vehicles, traveling at speeds of up to 150 miles per hour, would transport passengers in the Main Artery Tunnels between the two termini. Proposed project components include: Two access points at the Washington, DC and Baltimore, MD termini; Two Main Artery Tunnels; up to 70 ventilation shafts; and 4 launch shaft sites for tunnel boring machines, at least one of which would be converted into a maintenance terminal for autonomous electric vehicles pods.

The Environmental Assessment (Draft) evaluates the existing environmental conditions within the project area, along with the potential environmental impacts of the No Build and Build alternatives for the proposed project. On April 24th at 84 FR 17231, FHWA published a Notice of Availability for the Environmental Assessment (Draft). The original comment period for the Environmental Assessment (Draft) closes on June 10, 2019. Stakeholders have expressed concern that this closing date does not provide sufficient time to review and provide comprehensive comments on the proposal. To allow time for these stakeholders and others to submit comprehensive comments, the closing date is extended from June 10, 2019, to July 17, 2019.

Gregory Murrill,
Division Administrator, Federal Highway Administration.

[FR Doc. 2019-12766 Filed 6-14-19; 8:45 am]

BILLING CODE 4910-22-P